FEDERAL MARITIME COMMISSION

Ocean Transportation Intermediary License Reissuances

The Commission gives notice that the following Ocean Transportation Intermediary licenses have been reissued pursuant to section 40901 of the Shipping Act of 1984 (46 U.S.C. 40101).

License No.: 022710F.

Name: Route 809 Freight Forward LLC.

Address: 7801 NW 66th Street, Suite C, Miami, FL 33166.

Date Reissued: August 10, 2012.

License No.: 003550F.

Name: Seair Exort Import Services, Inc. dba Seair Concord International Forwarding, L.C.

Address: 921 NW 120th Avenue, Plantation, FL 33325.

Date Reissued: August 16, 2012.

Vern W. Hill,
Director, Bureau of Certification and Licensing.

[FR Doc. 2012-23172 Filed 9-19-12; 8:45 am]

BILLING CODE 6730-01-P